DEPARTMENT OF TRANSPORTATION

Federal Aviation Administration

14 CFR Part 97

[Docket No. 30982; Amdt. No. 3612]

Standard Instrument Approach Procedures, and Takeoff Minimums and Obstacle Departure Procedures; Miscellaneous Amendments

AGENCY: Federal Aviation Administration (FAA), DOT.

ACTION: Final rule.

SUMMARY: This rule amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective November 17, 2014. The compliance date for each SIAP, associated Takeoff Minimums, and ODP is specified in the amendatory provisions.

The incorporation by reference of certain publications listed in the regulations is approved by the Director of the Federal Register as of November 17, 2014.

ADDRESSES: Availability of matter incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420) Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on September 26, 2014.
John Duncan,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
13-Nov-14 | KY | Louisville | Louisville Intl-Standiford Field | 4/0430 | 09/19/14 | RNAV (GPS) Y RWY 17R, Amdt 1A.
13-Nov-14 | KY | Louisville | Louisville Intl-Standiford Field | 4/0431 | 09/19/14 | RNAV (RNP) Z RWY 35L, Amdt 1.
13-Nov-14 | KY | Louisville | Louisville Intl-Standiford Field | 4/0432 | 09/19/14 | LOC RWY 29, Orig-A.
13-Nov-14 | KY | Louisville | Louisville Intl-Standiford Field | 4/0438 | 09/19/14 | ILS OR LOC RWY 17R, Amdt 3B.
13-Nov-14 | KY | Louisville | Louisville Intl-Standiford Field | 4/0444 | 09/19/14 | RNAV (GPS) Y RWY 35R, Amdt 1.
13-Nov-14 | KY | Louisville | Louisville Intl-Standiford Field | 4/0448 | 09/19/14 | RNAV (GPS) Y RWY 35L, Amdt 1.
13-Nov-14 | KY | Louisville | Louisville Intl-Standiford Field | 4/0449 | 09/19/14 | RNAV (RNP) Z RWY 35R, Orig.
13-Nov-14 | KY | Louisville | Louisville Intl-Standiford Field | 4/0450 | 09/19/14 | RNAV (RNP) Z RWY 17L, Orig-A.
13-Nov-14 | KY | Louisville | Louisville Intl-Standiford Field | 4/0451 | 09/19/14 | RNAV (RNP) Z RWY 17R, Orig-A.
13-Nov-14 | KY | Louisville | Louisville Intl-Standiford Field | 4/0452 | 09/19/14 | RNAV (GPS) Y RWY 17L, Amdt 1A.
13-Nov-14 | KY | Louisville | Louisville Intl-Standiford Field | 4/0453 | 09/19/14 | ILS OR LOC RWY 35L, ILS RWY 35L (SA CAT I), ILS RWY 35L (CAT II & III), Amdt 3A.
13-Nov-14 | NE | Grand Island | Central Nebraska Rgnl | 4/0532 | 09/11/14 | ILS OR LOC RWY 35, Amdt 9D.
13-Nov-14 | NE | Grand Island | Central Nebraska Rgnl | 4/0533 | 09/11/14 | VOR RWY 13, Amdt 19A.
13-Nov-14 | NE | Grand Island | Central Nebraska Rgnl | 4/0537 | 09/11/14 | VOR/DME RWY 35, Amdt 15.
13-Nov-14 | NE | Grand Island | Central Nebraska Rgnl | 4/0539 | 09/11/14 | VOR RWY 17, Amdt 24.
13-Nov-14 | NE | Grand Island | Central Nebraska Rgnl | 4/0540 | 09/11/14 | LOC/DME BC RWY 17, Amdt 9C.
13-Nov-14 | TN | Millington | Millington Rgnl Jetport | 4/1581 | 09/11/14 | ILS OR LOC RWY 22, Amdt 4.
13-Nov-14 | NC | Wilmington | Wilmington Intl | 4/1744 | 09/12/14 | TACAN A, Orig-A.
13-Nov-14 | VA | Richlands | Tazewell County | 4/1762 | 09/12/14 | RNAV (GPS) RWY 25, Amdt 1.
13-Nov-14 | VA | Richlands | Tazewell County | 4/1764 | 09/12/14 | LOC/DME RWY 25, Amdt 1.
13-Nov-14 | VA | Richlands | Tazewell County | 4/1765 | 09/12/14 | RNAV (GPS) RWY 7, Orig-A.
13-Nov-14 | CO | Burlington | Kit Carson County | 4/2020 | 09/19/14 | NDB RWY 15, Amdt 1A.
13-Nov-14 | CO | Burlington | Kit Carson County | 4/2021 | 09/19/14 | LOC RWY 33, Orig.
13-Nov-14 | CA | San Francisco | San Francisco Intl | 4/2350 | 09/11/14 | ILS OR LOC RWY 28L, ILS RWY 28L (SA CAT II), Amdt 24C.
13-Nov-14 | AK | Anchorage | Ted Stevens Anchorage Intl | 4/2363 | 09/12/14 | RNAV (GPS) RWY 15, Amdt 2A.
13-Nov-14 | IL | Peru | Illinois Valley Rgnl-Walter A Duncan Field | 4/2747 | 09/19/14 | LOC RWY 36, Amdt 3B.
13-Nov-14 | CA | Tulare | Mefford Field | 4/2777 | 09/11/14 | VOR/DME RWY 13, Amdt 1.
13-Nov-14 | CA | Tulare | Mefford Field | 4/2778 | 09/11/14 | RNAV (GPS) RWY 13, Orig.
13-Nov-14 | IL | Belleville | Scott AFB/MidAmerica | 4/2866 | 09/11/14 | RNAV (GPS) RWY 32R, Orig-A.
13-Nov-14 | SC | Columbia | Jim Hamilton L.B. Owens | 4/2997 | 09/11/14 | GPS RWY 31, Orig-A.
13-Nov-14 | AK | Aniak | Aniak | 4/3278 | 09/11/14 | ILS/DME RWY 10, Amdt 7D.
13-Nov-14 | AL | Huntsville | Huntsville Intl-Carl T Jones Field | 4/3543 | 09/19/14 | ILS OR LOC RWY 36R, Amdt 2A.
13-Nov-14 | AL | Huntsville | Huntsville Intl-Carl T Jones Field | 4/3544 | 09/19/14 | ILS OR LOC RWY 36L, Amdt 10A.
13-Nov-14 | AL | Huntsville | Huntsville Intl-Carl T Jones Field | 4/3545 | 09/19/14 | ILS OR LOC RWY 18L, Amdt 4B.
13-Nov-14 | FL | Fort Myers | Page Field | 4/3675 | 09/19/14 | VOR RWY 13, Orig-D.
13-Nov-14 | IA | Pocahontas | Pocahontas Muni | 4/3728 | 09/19/14 | VOR/DME RWY 30, Amdt 4A.
13-Nov-14 | IA | Pocahontas | Pocahontas Muni | 4/3729 | 09/19/14 | RNAV (GPS) RWY 30, Orig-B.
13-Nov-14 | IA | Sac City | Sac City Muni | 4/3731 | 09/19/14 | RNAV (GPS) RWY 18, Orig.
13-Nov-14 | IA | Sac City | Sac City Muni | 4/3732 | 09/19/14 | RNAV (GPS) RWY 36, Amdt 1A.
13-Nov-14 | IA | Sac City | Sac City Muni | 4/3733 | 09/19/14 | NDB RWY 36, Amdt 4A.
13-Nov-14 | HI | Hilo | Hilo Intl | 4/4084 | 09/11/14 | RNAV (GPS) RWY 26, Orig-B.
13-Nov-14 | OR | Portland | Portland-Hillsboro | 4/4777 | 09/19/14 | VOR/DME C, Orig.
13-Nov-14 | AK | Akiak | Akiak | 4/5005 | 09/12/14 | RNAV (GPS) RWY 3, Orig.
13-Nov-14 | AK | Akiak | Akiak | 4/5011 | 09/12/14 | RNAV (GPS) RWY 21, Orig.
13-Nov-14 | TX | Carrizo Springs | Dimmit County | 4/5412 | 09/19/14 | NDB RWY 31, Amdt 3B.
13-Nov-14 | TX | Carrizo Springs | Dimmit County | 4/5417 | 09/19/14 | RNAV (GPS) RWY 31, Amdt 1.
13-Nov-14 | TX | Carrizo Springs | Dimmit County | 4/5420 | 09/19/14 | RNAV (GPS) RWY 13, Orig-A.
13-Nov-14 | MO | Mountain Grove | Mountain Grove Memorial | 4/5429 | 09/11/14 | RNAV (GPS) RWY 26, Orig.
13-Nov-14 | IL | Chicago/Prospect Heights/Wheeling | Chicago Executive | 4/5601 | 09/19/14 | ILS OR LOC RWY 16, Amdt 2A.
13-Nov-14 | IL | Chicago/Prospect Heights/Wheeling | Chicago Executive | 4/5602 | 09/19/14 | VOR RWY 16, Orig-C.
13-Nov-14 | IL | Chicago/Prospect Heights/Wheeling | Chicago Executive | 4/5606 | 09/19/14 | RNAV (GPS) RWY 16, Amdt 1B.
13-Nov-14 | AK | St Mary's | St Mary's | 4/5864 | 09/12/14 | RNAV (GPS) RWY 35, Amdt 2A.
13-Nov-14 | AK | St Mary's | St Mary's | 4/5868 | 09/12/14 | RNAV (GPS) RWY 17, Amdt 3A.
13-Nov-14 | AK | St Mary's | St Mary's | 4/5869 | 09/12/14 | LOC/DME RWY 17, Amdt 5A.
13-Nov-14 | WA | Chehalis | Chehalis-Centralia | 4/6108 | 09/19/14 | RNAV (GPS) RWY 16, Amdt 1.
13-Nov-14 | AK | Emmonak | Emmonak | 4/6915 | 09/11/14 | VOR RWY 34, Amdt 1.
13-Nov-14 | AK | Emmonak | Emmonak | 4/6917 | 09/11/14 | RNAV (GPS) RWY 16, Amdt 2.
13-Nov-14 | AK | Emmonak | Emmonak | 4/6918 | 09/11/14 | RNAV (GPS) RWY 34, Amdt 2.
13-Nov-14 | AK | Emmonak | Emmonak | 4/6919 | 09/11/14 | VOR RWY 16, Amdt 1.
13-Nov-14 | TX | Austin | Austin-Bergstrom Intl | 4/7057 | 09/19/14 | ILS OR LOC RWY 17R, Amdt 4A.
13-Nov-14 | TX | Austin | Austin-Bergstrom Intl | 4/7058 | 09/19/14 | ILS OR LOC RWY 17L, ILS RWY 17L (SA CAT I), ILS RWY 17L (CAT II & III), Amdt 2A.
13-Nov-14 | WV | Williamson | Appalachian Rgnl | 4/9281 | 09/12/14 | RNAV (GPS) RWY 8, Orig-B.
13-Nov-14 | WV | Williamson | Appalachian Rgnl | 4/9282 | 09/12/14 | RNAV (GPS) RWY 26, Orig-B.
13-Nov-14 | CA | Madera | Madera Muni | 4/9765 | 09/12/14 | RNAV (GPS) RWY 30, Orig.
13-Nov-14 | CA | Madera | Madera Muni | 4/9767 | 09/12/14 | RNAV (GPS) RWY 12, Orig.
13-Nov-14 | DC | Washington | Manassas Rgnl/Harry P. Davis Field | 4/9772 | 09/12/14 | ILS OR LOC RWY 16L, Orig.
13-Nov-14 | DC | Washington | Manassas Rgnl/Harry P. Davis Field | 4/9776 | 09/12/14 | RNAV (GPS) RWY 16L, Amdt 1B.

[FR Doc. 2014-26852 Filed 11-14-14; 8:45 am]

BILLING CODE 4910-13-P